DEPARTMENT OF TRANSPORTATION

Federal Railroad Administration

[Docket Number FRA-2013-0025]

Notice of Application for Approval of Discontinuance or Modification of a Railroad Signal System

In accordance with Part 235 of Title 49 Code of Federal Regulations (CFR) and 49 U.S.C. 20502(a), this document provides the public notice that by a document dated February 21, 2013, the Norfolk Southern Corporation (NS) has petitioned the Federal Railroad Administration (FRA) seeking approval for the discontinuance or modification of a signal system. FRA assigned the petition Docket Number FRA-2013-0025.

Applicant: Norfolk Southern Corporation, Mr. Brian Sykes, Chief Engineer C&S Engineering, 1200 Peachtree Street NE., Atlanta, Georgia 30309.

NS seeks approval of the proposed discontinuance of automatic signals within traffic control signal (TCS) territory and the installation of a cab signal system without wayside signals on the NS Pittsburgh Line, from Milepost (MP) PT 352.2 (CP Solomon) to MP PT 353.35/PC 0.0, and on its Fort Wayne Line from MP PT 353.35/PC 0.0 to MP PC 15.0 (CP Leets). All of the existing automatic signals on both line segments will be retired and cab signals without wayside signaling will be installed.

The installation of cab signals without wayside signals will include “block clear” signals at all control points in the event of an onboard cab signal failure en route.

NS seeks to make the proposed changes because the installation of cab signals without wayside signals will improve train operations and will facilitate the installation of Positive Train Control (PTC) on both lines. NS's implementation plan, if approved, would be to design and install the cab signals without wayside signals on the section of the line between CP Leets, MP 15.0, and CP Bell, MP PC 4.8, as soon as the approval is obtained. CP Bell, MP PC 4.8, to CP Solomon, MP PC 352.2, would follow as a later implementation phase.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 24, 2013 will be considered by FRA before final action is taken. Comments received after that date will be considered as far as is practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on April 3, 2013.
Robert C. Lauby,
Deputy Associate Administrator for Regulatory and Legislative Operations.

[FR Doc. 2013-08244 Filed 4-8-13; 8:45 am]

BILLING CODE 4910-06-P